DEPARTMENT OF HOMELAND SECURITY

Coast Guard

33 CFR Part 100

[Docket No. USCG-2010-0102]

RIN 1625-AA08

Special Local Regulation for Marine Events; Temporary Change of Dates for Recurring Marine Events in the Fifth Coast Guard District; Correction

ACTION: Temporary final rule; correction.

SUMMARY: In the Federal Register published on April 19, 2010, the Coast Guard temporarily changed the enforcement period of two special local regulations for recurring marine events in the Fifth Coast Guard District, one on April 17-18, 2010, and one on May 29-30, 2010. That publication contained several errors. These errors do not impact the events scheduled for this year, but could cause confusion about future years.

DATES: This correction is effective May 6, 2010.

FOR FURTHER INFORMATION CONTACT: For information about this correction, contact Kevin d'Eustachio, Office of Regulations and Administrative Law, telephone (202) 372-3854, e-mail kevin.m.deustachio@uscg.mil. For information about the original regulation, contact LT Tiffany Duffy, Project Manager, Sector Hampton Roads, Waterways Management Division, United States Coast Guard; telephone (757) 668-5580, e-mail Tiffany.A.Duffy@uscg.mil.

SUPPLEMENTARY INFORMATION: In FR doc 2010-8861 appearing on page 20294 in the issue of Monday, April 19, 2010, the following corrections are made:

1. In the summary on page 20294, in the first column, remove the words “proposes to temporarily change” and add in their place the words “temporarily changes”.

2. On page 20294, in the third column, revise the “DATES” section to read as follows:

“DATES: This rule is effective in the CFR April 19, 2010, through May 31, 2010. This rule is effective with actual notice for purposes of enforcement from April 7, 2010, through May 31, 2010.”

3. On page 20296, in the third column, revise amendatory instruction number 2 to read as follows:

“2. In Sec. 100.501, suspend line No. 31 and 38 in the Table to Sec. 100.501 from April 17, 2010 through June 1, 2010.”

4. On page 20296, in the third column revise amendatory instruction number 3 to read as follows:

“3. In Sec. 100.501 add lines No. 58 and 59 in Table to Sec. 100.501 to read as follows:”

Dated: April 28, 2010.
S. Venckus,
Office of Regulations and Administrative Law (CG-0943), U.S. Coast Guard.

[FR Doc. 2010-10602 Filed 5-5-10; 8:45 am]

BILLING CODE 9110-04-P